DEPARTMENT OF TRANSPORTATION

Federal Aviation Administration

14 CFR Part 39

[Docket No. FAA-2006-25904; Directorate Identifier 2006-NM-077-AD]

RIN 2120-AA64

Airworthiness Directives; Bombardier Model DHC-8-100, -200, and -300 Series Airplanes

AGENCY: Federal Aviation Administration (FAA), Department of Transportation (DOT).

ACTION: Notice of proposed rulemaking (NPRM).

SUMMARY: The FAA proposes to supersede an existing airworthiness directive (AD) that applies to certain Bombardier Model DHC-8-100, -200, and -300 series airplanes. The existing AD currently requires modification of the flight compartment door; repetitive inspections for wear of the flight compartment door hinges following modification; and repair or replacement of the hinges with new hinges if necessary. This proposed AD would require using revised procedures for modifying and inspecting the flight compartment door and would reduce the applicability of the existing AD. This proposed AD results from a determination that certain cockpit doors are no longer subject to the existing requirements. We are proposing this AD to prevent failure of the alternate release mechanism of the flight compartment door, which could delay or impede the evacuation of the flightcrew during an emergency. This failure also could result in the flightcrew not being able to assist passengers in the event of an emergency.

DATES: We must receive comments on this proposed AD by October 26, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Bombardier Regional Aircraft Division, 123 Garratt Boulevard, Downsview, Ontario M3K 1Y5, Canada, for service information identified in this proposed AD.

FOR FURTHER INFORMATION CONTACT: Ezra Sasson, Aerospace Engineer, Systems and Flight Test Branch, ANE-172, FAA, New York Aircraft Certification Office, 1600 Stewart Avenue, Suite 410, Westbury, New York 11590; telephone (516) 228-7320; fax (516) 794-5531.

SUPPLEMENTARY INFORMATION:

Comments Invited

We invite you to submit any relevant written data, views, or arguments regarding this proposed AD. Send your comments to an address listed in the ADDRESSES section. Include the docket number “Docket No. FAA-2006-25904; Directorate Identifier 2006-NM-077-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On March 30, 1999, we issued AD 99-08-04, amendment 39-11109 (64 FR 16803, April 7, 1999), for certain Bombardier Model DHC-8-100, -200, and -300 series airplanes. That AD requires modification of the flight compartment door; repetitive inspections for wear of the flight compartment door hinges following modification; and repair or replacement of the hinges with new hinges, if necessary. That AD resulted from a report that the door lock mechanism of the flight compartment door jammed and could not be opened using the alternate release mechanism. We issued that AD to prevent failure of the alternate release mechanism of the flight compartment door, which could delay or impede the evacuation of the flightcrew during an emergency. This failure also could result in the flightcrew not being able to assist passengers in the event of an emergency.

Actions Since Existing AD Was Issued

Since we issued AD 99-08-04, various civil aviation authorities have mandated the installation of reinforced flight compartment doors, which negates the need for the modification required by paragraph (a) of the existing AD (Modification 8/2337) for airplanes on which the doors were installed in production. Modifications 8/2228, 8/2229, 8/2231, 8/2232, 8Q100859, 8Q900267, 8Q420101, 8Q420143, 8Q200131, or 8Q420440 are equivalent to Modification 8/2337 (specified in paragraph (a) of the existing AD) for the flight compartment door alternate release mechanism. In addition, Bombardier has issued revised procedures for modifying and inspecting the flight compartment door.

Relevant Service Information

Bombardier has issued Service Bulletin 8-52-39, Revision “H,” dated September 9, 2004. Revision “H” is similar to Revision “D,” dated February 27, 1998, which was cited in the existing AD as the appropriate source of service information for accomplishing the required actions. Among other things, Revision “H” revises the procedures used for modifying and inspecting the flight compartment door, as specified in the original issue of Bombardier Service Bulletin 8-52-39, dated October 31, 1996, and Revision “A,” of the service bulletin. In addition, the effectivity specified in Revision “H” excludes airplanes on which new, improved flight compartment doors have been installed in production.

Transport Canada Civil Aviation (TCCA), which is the airworthiness authority for Canada, mandated the service information and issued Canadian airworthiness directive CF-1996-20R4, dated August 10, 2005, to ensure the continued airworthiness of these airplanes in Canada.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for airplanes of this type design that are certificated for operation in the United States.

This proposed AD would supersede AD 99-08-04 and would retain the requirements of the existing AD, but would require using revised procedures. This proposed AD would also reduce the applicability of the existing AD.

Operators should note that Note 2 of AD 99-08-04 provides credit for modification of the flight compartment door in accordance with Bombardier Service Bulletin S.B. 8-52-39, dated August 30, 1996; Revision “A,” dated October 31, 1996; Revision “B,” dated July 4, 1997; or Revision “C,” dated September 1, 1997; if the modification is done before the effective date of AD 99-08-04. However, we have determined that the modification and inspection procedures specified in the original issue and Revision “A,” of the service bulletin are not adequate due to a design deficiency detected after issuance of those service bulletins. TCCA agrees with this finding.

Accordingly, we have re-identified Note 2 of the existing AD as paragraph (i) of this proposed AD for formatting reasons. In addition, we have revised the content of the new paragraph (i) to remove references to the original issue and Revision “A” of the service bulletin, and to provide credit for accomplishing the actions in Revision “E,” dated May 10, 1999; Revision “F,” dated February 4, 2000; or Revision G, dated May 17, 2001.

Clarification of Alternative Method of Compliance (AMOC) Paragraph

We have revised this action to clarify the appropriate procedure for notifying the principal inspector before using any approved AMOC on any airplane to which the AMOC applies.

Change to Existing AD

This proposed AD would retain the requirements of AD 99-08-04. Since AD 99-08-04 was issued, the AD format has been revised, and certain paragraphs have been rearranged. As a result, the corresponding paragraph identifiers have changed in this proposed AD, as listed in the following table:

Revised Paragraph Identifiers
Requirement in AD 99-08-04 | Corresponding requirement in this proposed AD
paragraph (a) | paragraph (f).
paragraph (b) | paragraph (h).
paragraph (c) | paragraph (j).

Costs of Compliance

This proposed AD would affect about 167 airplanes of U.S. registry. The new actions of this proposed AD add no additional economic burden. The current costs for this AD are repeated for the convenience of affected operators, as follows:

The modification takes about 4 work hours per airplane, at an average labor rate of $80 per work hour. The manufacturer states that it will supply required parts to the operators at no cost. Based on these figures, the estimated cost of the modification is $53,440, or $320 per airplane.

The inspection takes about 2 work hours per airplane, at an average labor rate of $80 per work hour. Based on these figures, the estimated cost of the inspection is $26,720, or $160 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11109 (64 FR 16803, April 7, 1999) and adding the following new airworthiness directive (AD):

Bombardier, Inc. (Formerly de Havilland, Inc.): Docket No. FAA-2006-25904; Directorate Identifier 2006-NM-077-AD.

Comments Due Date

(a) The FAA must receive comments on this AD action by October 26, 2006.

Affected ADs

(b) This AD supersedes AD 99-08-04.

Applicability

(c) This AD applies to Bombardier Model DHC-8-100, -200 and -300 series airplanes, certificated in any category; equipped with a flight compartment door installation having part number (P/N) 82510074-(*), 82510294-(*), 82510310-001, 8Z4597-001, H85250010-(*), 82510700-(*), or 82510704-(*); except P/Ns 82510704-502 and 82510704-503.

Note 1: (*) denotes all dash numbers.

Unsafe Condition

(d) This AD results from a determination that certain cockpit doors are no longer subject to the existing requirements. We are issuing this AD to prevent failure of the alternate release mechanism of the flight compartment door, which could delay or impede the evacuation of the flightcrew during an emergency. This failure also could result in the flightcrew not being able to assist passengers in the event of an emergency.

Compliance

(e) You are responsible for having the actions required by this AD performed within the compliance times specified, unless the actions have already been done.

Modification

(f) Except as required by paragraph (g) of this AD: Within 90 days after May 12, 1999 (the effective date of AD 99-08-04), modify the lower hinge assembly and main door latch (Modification 8/2337) of the flight compartment door, in accordance with Bombardier Service Bulletin S.B. 8-52-39, Revision “D,” dated February 27, 1998; or Revision “H,” dated September 9, 2004. After the effective date of this AD, only Revision “H” may be used for accomplishing the modification.

(g) For airplanes on which the modification required by paragraph (f) of this AD was done before the effective date of this AD in accordance with Bombardier Service Bulletin S.B. 8-52-39, dated August 30, 1996; or Revision “A,” dated October 31, 1996: Within 90 days after the effective date of this AD, do the modification required by paragraph (f) of this AD in accordance with Bombardier Service Bulletin 8-52-39, Revision “H,” dated September 9, 2004.

Inspection

(h) Within 800 flight hours after doing the modification required by paragraph (g) of this AD: Inspect the hinge areas around the hinge pin holes of the flight compartment door for wear in accordance with Bombardier Service Bulletin S.B. 8-52-39, Revision “D,” dated February 27, 1998; or Revision “H,” dated September 9, 2004. After the effective date of this AD, only Revision “H” may be used for accomplishing the inspection.

(1) If no wear is detected, or if the wear is less than or equal to 0.020 inch in depth, repeat the inspection thereafter at intervals not to exceed 800 flight hours.

(2) If any wear is detected and its dimension around the hinge pin holes is less than 0.050 inch and greater than 0.020 inch in depth, prior to further flight, perform the applicable corrective actions specified in the service bulletin. Repeat the inspection thereafter at intervals not to exceed 800 flight hours.

(3) If any wear is detected and its dimension around the hinge pin holes is greater than or equal to 0.050 inch in depth, prior to further flight, replace the worn hinges with new hinges in accordance with the service bulletin. Repeat the inspection thereafter at intervals not to exceed 800 flight hours.

Credit for Actions Accomplished Previously

(i) Modifications and inspections done before the effective date of this AD in accordance with Bombardier Service Bulletin S.B. 8-52-39, Revision “B,” dated July 4, 1997; Revision “C,” dated September 1, 1997; Revision “E,” dated May 10, 1999; Revision “F,” dated February 4, 2000; or Revision G, dated May 17, 2001; are considered acceptable for compliance with the modification and inspections required by this AD.

Alternative Methods of Compliance (AMOCs)

(j)(1) The Manager, New York Aircraft Certification Office, FAA, has the authority to approve AMOCs for this AD, if requested in accordance with the procedures found in 14 CFR 39.19.

(2) AMOCs approved previously in accordance with AD 99-08-04 are approved as AMOCs for the corresponding provisions of paragraphs (f), (g), (h), and (i) of this AD.

(3) Before using any AMOC approved in accordance with § 39.19 on any airplane to which the AMOC applies, notify the appropriate principal inspector in the FAA Flight Standards Certificate Holding District Office.

Related Information

(k) Canadian airworthiness directive CF-1996-20R4, dated August 10, 2005, also addresses the subject of this AD.

Issued in Renton, Washington, on September 15, 2006.
Kalene C. Yanamura,
Acting Manager, Transport Airplane Directorate, Aircraft Certification Service.

[FR Doc. 06-8233 Filed 9-25-06; 8:45 am]

BILLING CODE 4910-13-P